DEPARTMENT OF HEALTH AND HUMAN SERVICES

Centers for Medicare & Medicaid Services

42 CFR Parts 400, 430, 431, 434, 435, 438, 440, and 447

[CMS-2104-F]

RIN 0938-AK96

Medicaid Program; Medicaid Managed Care: New Provisions

Correction

In rule document 02-14747 beginning on page 40989 in the issue of Friday, June 14, 2002, make the following correction:

On page 40989, in the first column, under the EFFECTIVE DATE: heading, in the third line, “June 16, 2003” should read “August 13, 2003”.

[FR Doc. C2-14747 Filed 6-21-02; 8:45 am]

BILLING CODE 1505-01-D